GENERAL SERVICES ADMINISTRATION

Office of Communications Cancellation of Standard Form

AGENCY: General Services Administration.

ACTION: Notice.

SUMMARY: Because of low usage the Department of Treasury is cancelling the following Standard Form:

SF 210, Signature/Designation Card for Certifying Officer.

DATES: Effective upon publication in the Federal Register.

FOR FURTHER INFORMATION CONTACT: Ms. Barbara Williams, General Services Administration, (202) 501-0581.

Dated: September 26, 2000.
Barbara M. Williams,
Deputy Standard and Optional Forms Management Officer.

[FR Doc. 00-27652 Filed 10-26-00; 8:45 am]

BILLING CODE 6820-34-M